DEPARTMENT OF THE TREASURY

United States Mint

Request for Citizens Coinage Advisory Committee Membership Applications; Correction

ACTION: Notice; correction.

SUMMARY: The United States Mint published a notice titled “Request for Citizens Coinage Advisory Committee Membership Applications” in the Federal Register on October 12, 2016. The notice contained an error. This document corrects the error.

Correction

In the Federal Register of October 12, 2016, in FR Doc. 2016-24635, on page 70488, the notice incorrectly stated the due date for applications. The correct date is Friday, October 21, 2016.

FOR FURTHER INFORMATION CONTACT: Betty Birdsong, Acting United States Mint Liaison to the CCAC; 801 Ninth Street NW., Washington, DC 20220; or call 202-354-7770.

Dated: October 12, 2016.
Richard A. Peterson,
Deputy Director for Manufacturing and Quality, United States Mint.

[FR Doc. 2016-25097 Filed 10-17-16; 8:45 am]

BILLING CODE P